DEPARTMENT OF AGRICULTURE

Forest Service

Craig and Thorne Bay Ranger Districts, Tongass National Forest; Alaska; Prince of Wales Landscape Level Analysis Project Environmental Impact Statement

AGENCY: Forest Service, USDA.

ACTION: Notice of intent to prepare an environmental impact statement.

SUMMARY: The U.S. Department of Agriculture, Forest Service will prepare an Environmental Impact Statement (EIS) to propose a variety of projects for multiple resource benefits at a landscape level to implement over the course of 10 to 15 years. Both the Craig and Thorne Bay Ranger Districts encompass Prince of Wales Island (POW) and surrounding islands, which serves as the project area for the Prince of Wales Landscape Level Analysis (POW LLA) Project. Our intention is that this project will be a highly collaborative process involving the public at all stages throughout the development of this analysis.

DATES: Comments concerning the scope of the analysis must be received by December 30, 2016. The publication date of this NOI in the Federal Register is the exclusive means for calculating the comment period for this scoping opportunity. If the comment period ends on a Saturday, Sunday, or Federal holiday, comments will be accepted until the end of the next Federal working day (11:59 p.m.). The POW LLA Project is an activity implementing the forest plan and is subject to 36 CFR 218, subparts A and B. Only individuals or entities who submit timely and specific written comments about this proposed project or activity during this or another public comment period established by the Responsible Official will be eligible to file an objection. The draft environmental impact statement is expected January of 2018 and the final environmental impact statement is expected July of 2018.

ADDRESSES: Send written comments to Thorne Bay Ranger District, at P.O. Box 19001, Thorne Bay, AK 99919. Comments may also be submitted electronically at https://cara.ecosystem-management.org/Public/CommentInput?project=50337, or via facsimile to (907) 828-3309.

FOR FURTHER INFORMATION CONTACT: Matthew Anderson, District Ranger, Craig and Thorne Bay Ranger Districts, at 504 9th Street, Craig, AK 99921, by telephone at (907) 826-3271; or Delilah Brigham, Project Leader, at 1312 Federal Way, Thorne Bay, AK 99919, by telephone at (907) 828-3232.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the POW LLA Project is to improve forest ecosystem health on Craig and Thorne Bay Ranger Districts, help support community resiliency, and provide economic development through an integrated approach to meet multiple resource objectives.

There is a need to provide a sustainable level of forest products to contribute to the economic viability of the region. There is also a need to provide old-growth timber to help maintain the expertise and infrastructure of the existing timber industry so the forest products industry can prepare for an increasing amount of merchantable young-growth offerings. These businesses are fundamental to both the young-growth and restoration components of the evolving timber program, and to the economic vitality of the region.

Timber stand establishment (TSE) and timber stand improvement (TSI) activities that restore and enhance early seral forests are necessary. This translates to the need for commercial and precommercial treatments of young-growth forests to produce future desired resource values, products, services, and forest health conditions that sustain the diversity and productivity of forested ecosystems.

Past management activities have affected watershed function and fish and wildlife habitat in the project area. There is a need for restoration activities in these watersheds to reestablish self-sustaining habitats that promote viable fish and wildlife populations. These will contribute to subsistence values and the continued traditional and cultural uses by residents of Prince of Wales and surrounding islands.

Providing sustainable recreation opportunities on POW and surrounding islands is critical to maintaining the existing opportunities for residents as well as to expand opportunities for growth in the recreation and tourism business sector. A sustainable program in terms of operations and maintenance is needed in order to maintain infrastructure to an acceptable level.

Proposed Action

The proposed action will be developed through extensive public involvement to meet the Purpose and Needs for the project, with activities that will occur over the course of 10 to 15 years. Input from the tribes and the public will help determine the location and types of activities, and how extensively they will occur across the landscape. Management activities that traditionally meet the needs associated with this project include: (1) Commercial and precommercial young-growth treatments including timber stand improvement activities, timber harvests, planting/interplanting, pruning and slash removal/manipulation; (2) old-growth timber harvests; (3) transportation management activities such as road construction, reconstruction, maintenance, and decommissioning in support of accomplishing other proposed management actions; (4) in-stream restoration work, riparian thinning, improvement of fish passages at road crossings, and improving water quality and both fish and wildlife habitat; and (5) developing and improving recreation infrastructure such as cabins and shelters, trails, winter recreation areas, campgrounds, interpretive sites, and boat launches. The proposed action is not limited to only the above activity types, but will be consistent with the Tongass Land and Resource Management Plan.

Possible Alternatives

Scoping comments will be used to develop a full range of alternatives to the proposed action, in response to significant issues that are identified. A no-action alternative will be analyzed as well, which represents no change and serves as the baseline for the comparison among the action alternatives.

Responsible Official

The Responsible Official for the decision on this project is M. Earl Stewart, Forest Supervisor, Tongass National Forest, Federal Building, 648 Mission Street, Ketchikan, Alaska, 99901.

Nature of Decision To Be Made

Given the purpose and need of the project, the Forest Supervisor will review the no action, the proposed action, other alternatives, and the environmental consequences in order to make decisions including the following: (1) Whether to select the proposed action or another alternative; (2) the locations, design, and scheduling of commercial and precommercial timber treatments, restoration activities, habitat improvements, road construction and reconstruction, and improvements to recreation opportunities; (3) mitigation measures and monitoring requirements; and (4) whether there may be a significant restriction of subsistence uses. No Forest Plan Amendments are anticipated with this decision.

Permits or Licenses Required

All necessary permits will be obtained prior to project implementation, and may include the following:

(1) State of Alaska, Department of Environmental Conservation (DEC), Alaska Pollutant Discharge Elimination System (APDES):

• General permit for Log Transfer Facilities in Alaska;

• Review Spill Prevention Control and Countermeasure Plan;

• Certification of Compliance with Alaska Water Quality Standards (401 Certification) Chapter 20;

• Storm Water Discharge Permit/National Pollutant Discharge Elimination System review (Section 402 of the Clean Water Act);

• Solid Waste Disposal Permit;

(2) U.S. Army Corp of Engineers:

• Approval of discharge of dredged or fill material into the waters of the United States under Section 404 of the Clean Water Act;

• Approval of the construction of structures or work in navigable waters of the United States under Section 10 of the Rivers and Harbors Act of 1899;

(3) State of Alaska, Division of Natural Resources (DNR):

• Authorization for occupancy and use of tidelands and submerged lands.

(4) State of Alaska, Department of Fish and Game (ADF&G)

• Fish Habitat Permit and Concurrence (Title 16)

Scoping Process

This notice of intent initiates the scoping process, which guides the development of the environmental impact statement. The Forest Service will be seeking information, comments, and assistance from Tribal Governments; Federal, State, and local agencies; individuals and organizations interested in or affected by the proposed activities. In addition to this Notice of Intent, legal notices will be placed in the Ketchikan Daily News, the official newspaper of record for this project. There will also be ample public involvement on Prince of Wales Island, including: Public meetings held in various communities, subsistence hearings, information posted in public places and in local publications such as the Island Post, and from the Prince of Wales Landscape Assessment Team, a collaborative group independently formed to provide widely based proposals to be considered by the U.S. Forest Service in the POW LLA Project development and analysis process. Project information and updates, meeting notices, and documents will be provided throughout the process on the project Web page at http://www.fs.usda.gov/project/?project=50337. Individuals may also provide comments and sign up for an electronic mailing list at that site.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: November 23, 2016.
Tawnya Brummett,
Acting Forest Supervisor.

[FR Doc. 2016-28760 Filed 11-29-16; 8:45 am]

BILLING CODE 3411-15-P